SUSQUEHANNA RIVER BASIN COMMISSION

Commission Meeting

AGENCY: Susquehanna River Basin Commission.

ACTION: Notice.

SUMMARY: The Susquehanna River Basin Commission will hold its regular business meeting on December 4, 2015, in Harrisburg, Pennsylvania. Details concerning the matters to be addressed at the business meeting are contained in the Supplementary Information section of this notice.

DATES: The meeting will be held on Friday, December 4, 2015, at 9 a.m.

ADDRESSES: The meeting will be held at the North Office Building, Hearing Room 1 (Ground Level), located at North Street (at Commonwealth Avenue), Harrisburg, PA 17120.

FOR FURTHER INFORMATION CONTACT: Jason E. Oyler, General Counsel, telephone: (717) 238-0423, ext. 1312; fax: (717) 238-2436.

SUPPLEMENTARY INFORMATION: The business meeting will include actions or presentations on the following items: (1) Resolution concerning FY-2017 federal funding of the Susquehanna Flood Forecast and Warning System and Groundwater and Streamflow Information Program; (2) rulemaking action to amend Commission regulations to simplify and clarify the process for transferring approvals and to add sections pertaining to general permits and minor modifications to approvals; (3) an update to the Commission's Investment Policy Statement; (4) regulatory compliance matters for Seneca Resources Corporation and Schreiber Foods, Inc.; and (5) Regulatory Program projects. The business meeting will also include action on ratification/approval of an agreement.

Projects and rulemaking listed for Commission action are those that were the subject of a public hearing conducted by the Commission on October 29, 2015, and identified in the notices for such hearing, which were published in 80 FR 58806, September 30, 2015; and 80 FR 56936, September 21, 2015, respectively.

The public is invited to attend the Commission's business meeting. Comments on the Regulatory Program projects and rulemaking are subject to a deadline of November 9, 2015. Written comments pertaining to other items on the agenda at the business meeting may be mailed to the Susquehanna River Basin Commission, 4423 North Front Street, Harrisburg, Pennsylvania 17110-1788, or submitted electronically through http://www.srbc.net/pubinfo/publicparticipation.htm. Such comments are due to the Commission on or before November 25, 2015. Comments will not be accepted at the business meeting noticed herein.

Authority: Pub. L. 91-575, 84 Stat. 1509 et seq., 18 CFR parts 806, 807, and 808.

Dated: November 4, 2015.
Stephanie L. Richardson,
Secretary to the Commission.

[FR Doc. 2015-28414 Filed 11-6-15; 8:45 am]

BILLING CODE 7040-01-P